DEPARTMENT OF COMMERCE

International Trade Administration

[A-552-802]

Certain Frozen Warmwater Shrimp From the Socialist Republic of Vietnam: Final Results and Final Determination of No Shipments of Antidumping Duty Administrative Review; 2022-2023

AGENCY: Enforcement and Compliance, International Trade Administration, Department of Commerce.

SUMMARY: The U.S. Department of Commerce (Commerce) determines that no companies under review qualify for a separate rate, and that these companies are, therefore, considered part of the Socialist Republic of Vietnam (Vietnam)-wide entity. Additionally, Commerce determines that certain companies had no shipments of subject merchandise during the period of review (POR), February 1, 2022, through January 31, 2023.

DATES: Applicable February 14, 2024.

FOR FURTHER INFORMATION CONTACT: Jonathan Schueler AD/CVD Operations, Office VIII, Enforcement and Compliance, International Trade Administration, U.S. Department of Commerce, 1401 Constitution Avenue NW, Washington, DC 20230; telephone: (202) 482-9175 respectively.

SUPPLEMENTARY INFORMATION:

Background

On November 3, 2023, Commerce published in the Federal Register the preliminary results of this administrative review of the antidumping duty order on certain frozen warmwater shrimp from Vietnam.¹ This review covers 118 companies preliminarily determined to be part of the Vietnam-wide entity and four companies preliminarily determined to have no shipments of subject merchandise during the POR.² We invited parties to comment on the Preliminary Results.³ No interested party submitted comments. Accordingly, the final results are unchanged from the Preliminary Results, with the exception of our treatment of Vietnam Fish One,⁴ and no decision memorandum accompanies this Federal Register notice. Commerce conducted this administrative review in accordance with section 751(a) of the Tariff Act of 1930, as amended (the Act).

¹ See Certain Frozen Warmwater Shrimp from the Socialist Republic of Vietnam: Preliminary Results, Partial Rescission, and Preliminary Determination of No Shipments of Antidumping Duty Administrative Review; 2022-2023, 88 FR 75550 (November 3, 2023) (Preliminary Results).

² In the Preliminary Results, we preliminarily determined that 117 companies under review belong to the Vietnam-wide entity. However, after the publication of the Preliminary Results, we determined that, based upon a re-examination of the record, Vietnam Fish One Co., Ltd. (Vietnam Fish One), a company with respect to which we stated we would rescind the review in the Preliminary Results, must be included in the Vietnam-wide entity because of its historical a.k.a. relationship with Viet Hai Seafood Co., Ltd., a company we preliminarily determined to belong to the Vietnam-wide entity. For a full discussion, see Memorandum, “Status of Vietnam Fish One Co., Ltd.,” dated November 13, 2023 (Vietnam Fish One Status Memorandum).

³ See Preliminary Results at 75552.

⁴ See Vietnam Fish One Status Memorandum.

Scope of the Order ⁵

⁵ See Notice of Amended Final Determination of Sales at Less Than Fair Value and Antidumping Duty Order: Certain Frozen Warmwater Shrimp from the Socialist Republic of Vietnam, 70 FR 5152 (February 1, 2005) (Order).

The merchandise subject to the Order is certain frozen warmwater shrimp from Vietnam. For a full description of the scope of the Order, see the Preliminary Results.⁶

⁶ See Preliminary Results, 88 FR at 75552 and Appendix I.

Final Determination of No Shipments

In the Preliminary Results, Commerce found that the following four companies did not have any shipments of subject merchandise during the POR: (1) Bien Dong Seafood Co., Ltd.; (2) Vinh Hoan Corp.; (3) Seavina Joint Stock Company; and (4) BIM Foods Joint Stock Company.⁷ As we have not received any information to contradict this preliminary finding, Commerce determines that these four companies did not have any shipments of subject merchandise during the POR and will issue appropriate instructions that are consistent with our “automatic assessment” clarification, for these final results.

⁷ Id., 88 FR at 75551. Consistent with the Preliminary Results, we omitted Van Duc Export Joint Stock Company from this list of companies because although it timely filed a no-shipment certification, the company is not under review. See Initiation of Antidumping and Countervailing Duty Administrative Reviews, 88 FR 21609, 2167 (April 11, 2023) (Initiation Notice).

Final Results of Review

As no parties submitted comments regarding the Preliminary Results, Commerce made no changes to its determinations for the final results of this review, with the exception of the treatment of Vietnam Fish One, as discussed above. For these final results, Commerce continues to find that no company under review submitted a timely separate rate application or separate rate certification, and therefore, no company has established eligibility for a separate rate.

Disclosure

Based on the above information, Commerce has not calculated any dumping margins for any companies under review, nor has Commerce granted separate rates to any companies under review. Commerce continues to find that 118 companies under review are part of the Vietnam-wide entity and are subject to the Vietnam-wide entity rate of 25.76 percent (see Appendix). Because no party requested a review of the Vietnam-wide entity, and we did not self-initiate a review, the Vietnam-wide entity rate (i.e., 25.76 percent) ⁸ is not subject to change as a result of this review. Consequently, there are no calculations to disclose in accordance with 19 CFR 351.224(b) for these final results.

⁸ See Order.

Assessment Rates

Pursuant to section 751(a)(2)(A) of the Act and 19 CFR 351.212(b)(1), Commerce has determined, and U.S. Customs and Border Protection (CBP) shall assess, antidumping duties on all appropriate entries of subject merchandise covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

We have not calculated any assessment rates in this administrative review. With regard to the 118 companies identified in the appendix to this notice as part of the Vietnam-wide entity, we will instruct CBP to apply an ad valorem assessment rate of 25.76 percent to all entries of subject merchandise during the POR which were exported by those companies. Additionally, consistent with Commerce's assessment practice in non-market economy (NME) cases, for any exporter under review which Commerce determined had no shipments of the subject merchandise during the POR, any suspended entries that entered under that exporter's case number (i.e., at that exporter's rate) will be liquidated at the NME-wide rate.⁹

⁹ For a full discussion of this practice, see Non-Market Economy Antidumping Proceedings: Assessment of Antidumping Duties, 76 FR 65694 (October 24, 2011).

Cash Deposit Requirements

The following cash deposit requirements will be effective upon publication of the final results of this administrative review for shipments of the subject merchandise from Vietnam entered, or withdrawn from warehouse, for consumption on or after the publication date, as provided by sections 751(a)(2)(C) of the Act: (1) for previously investigated or reviewed Vietnamese and non-Vietnamese exporters that are not under review in this segment of the proceeding but have separate rates, the cash deposit rate will continue to be the exporter's existing cash deposit rate; (2) for all Vietnamese exporters of subject merchandise that have not been found to be entitled to a separate rate, the cash deposit rate will be the existing rate for the Vietnam-wide entity of 25.76 percent; and (3) for all non-Vietnamese exporters of subject merchandise which have not received their own rate, the cash deposit rate will be the rate applicable to the Vietnamese exporter that supplied that non-Vietnamese exporter. These cash deposit requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order (APO)

This notice also serves as a final reminder to parties subject to an APO of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

Notification to Interested Parties

These final results are issued and published in accordance with sections 751(a)(1)(B) and 777(i)(1) of the Act and 19 CFR 351.221(b)(5).

Dated: February 6, 2024.
Ryan Majerus,
Deputy Assistant Secretary for Policy and Negotiations, performing the non-exclusive functions and duties of the Assistant Secretary for Enforcement and Compliance.

Appendix

Companies Under Review Determined To Be Part of the Vietnam-Wide Entity

1. AFoods

2. Amanda Seafood Co., Ltd.

3. An Nguyen Investment Production and Group

4. Anh Khoa Seafood

5. Anh Minh Quan Corp.

6. APT Co.

7. Au Vung One Seafood

8. Bentre Forestry and Aquaproduct Import-Export Joint Stock Company

9. Bentre Seafood Joint Stock Company

10. Beseaco

11. Binh Dong Fisheries Joint Stock Company

12. Binh Thuan Import-Export Joint Stock Company

13. Blue Bay Seafood Co., Ltd.

14. Cadovimex

15. Cadovimex II Seafood Import Export and Processing Joint Stock Company

16. Cadovimex Seafood Import-Export and Processing Joint Stock Company

17. Cantho Import Export Seafood Joint Stock Company

18. Caseamex

19. CJ Cau Tre Foods Joint Stock Company

20. Coastal Fisheries Development Corporation

21. COFIDEC

22. Dai Phat Tien Seafood Co., Ltd.

23. Danang Seafood Import Export

24. Danang Seaproducts Import-Export Corporation

25. Dong Hai Seafood Limited Company

26. Dong Phuong Seafood Co., Ltd.

27. Duc Cuong Seafood Trading Co., Ltd.

28. Duong Hung Seafood

29. FAQUIMEX

30. FFC

31. Fine Foods Company

32. Gallant Dachan Seafood Co., Ltd.

33. Gallant Ocean (Vietnam) Co. Ltd.

34. Gallant Ocean (Vietnam) Joint Stock Company

35. Go Dang Joint Stock Company

36. GODACO Seafood

37. Green Farms Seafood Joint Stock Company

38. Hanh An Trading Service Co., Ltd.

39. Hoang Anh Fisheries Trading Company Limited

40. Hong Ngoc Seafood Co., Ltd.

41. Hung Bang Company Limited

42. Hung Dong Investment Service Trading Co., Ltd.

43. HungHau Agricultural Joint Stock Company

44. INCOMFISH

45. Investment Commerce Fisheries Corporation

46. JK Fish Co., Ltd.

47. Khang An Foods Joint Stock Company

48. Khanh Hoa Seafoods Exporting Company

49. KHASPEXCO

50. Long Toan Frozen Aquatic Products Joint Stock Company

51. MC Seafood

52. Minh Bach Seafood Company Limited

53. Minh Cuong Seafood Import Export Processing Joint Stock Company

54. Minh Phat Seafood Company Limited ¹⁰

¹⁰ As stated in the Initiation Notice, 88 FR at 21609, shrimp produced and exported by Minh Phat Seafood Company Limited were excluded from the Order effective July 18, 2016. See Certain Frozen Warmwater Shrimp from the Socialist Republic of Vietnam: Notice of Implementation of Determination Under Section 129 of the Uruguay Round Agreements Act and Partial Revocation of the Antidumping Duty Order, 81 FR 47756, 47757-58 (July 22, 2016). Accordingly, this review was initiated for this exporter only with respect to subject merchandise produced by another entity. See Initiation Notice, 88 FR at 21616 (footnote 10).

55. Minh Phu Hau Giang Seafood ¹¹

¹¹ As stated in the Initiation Notice, shrimp produced and exported by Minh Phu Hau Giang Seafood were excluded from the Order effective July 18, 2016. See Certain Frozen Warmwater Shrimp from the Socialist Republic of Vietnam: Notice of Implementation of Determination Under Section 129 of the Uruguay Round Agreements Act and Partial Revocation of the Antidumping Duty Order, 81 FR 47756, 47757-58 (July 22, 2016). Accordingly, this review was initiated for this exporter only with respect to subject merchandise produced by another entity. See Initiation Notice, 88 FR at 21616 (footnote 11).

56. Minh Phu Seafood Corporation ¹²

¹² As stated in the Initiation Notice, shrimp produced and exported by Minh Phu Seafood Corporation were excluded from the Order effective July 18, 2016. See Certain Frozen Warmwater Shrimp from the Socialist Republic of Vietnam: Notice of Implementation of Determination Under Section 129 of the Uruguay Round Agreements Act and Partial Revocation of the Antidumping Duty Order, 81 FR 47756, 47757-58 (July 22, 2016). Accordingly, this review was initiated for this exporter only with respect to subject merchandise produced by another entity. See Initiation Notice, 88 FR at 21616 (footnote 12).

57. Minh Qui Seafood Company Limited ¹³

¹³ As stated in the Initiation Notice, shrimp produced and exported by Minh Qui Seafood Company Limited were excluded from the Order effective July 18, 2016. See Certain Frozen Warmwater Shrimp from the Socialist Republic of Vietnam: Notice of Implementation of Determination Under Section 129 of the Uruguay Round Agreements Act and Partial Revocation of the Antidumping Duty Order, 81 FR 47756, 47757-58 (July 22, 2016). Accordingly, this review was initiated for this exporter only with respect to subject merchandise produced by another entity. See Initiation Notice, 88 FR at 21616 (footnote 13).

58. Nam Phuong Foods Import Export Company Limited

59. Nam Viet Seafood Import Export Joint Stock Company

60. Namcan Seaproducts Import Export Joint Stock Company

61. NAVIMEXCO

62. New Generation Seafood Joint Stock Company

63. New Wind Seafood Company Limited

64. Ngoc Trinh Bac Lieu Seafood Co., Ltd.

65. Nguyen Chi Aquatic Product Trading Company Limited

66. Nhat Duc Co., Ltd.

67. Nigico Co., Ltd.

68. Phuong Nam Foodstuff Corp.

69. QAIMEXCO

70. Quang Minh Seafood Co., Ltd

71. Quoc Ai Seafood Processing Import Export Co., Ltd.

72. Quoc Toan PTE

73. Quoc Toan Seafood Processing Factory

74. Quy Nhon Frozen Seafoods Joint Stock Company

75. Safe And Fresh Aquatic Products Joint Stock Company

76. Saigon Aquatic Product Trading Joint Stock Company

77. Saigon Food Joint Stock Company

78. SEADANANG

79. Seafood Direct 2012 One Member Limited

80. Seafood Joint Stock Company No. 4

81. Seafood Travel Construction Import-Export Joint Stock Company

82. Seanamico

83. Seaproducts Joint Stock Company

84. Seaspimex Vietnam

85. Simmy Seafood Company Limited

86. South Ha Tinh Seaproducts Import-Export Joint Stock Company

87. South Vina Shrimp—SVS

88. Southern Shrimp Joint Stock Company

89. Special Aquatic Products Joint Stock Company

90. T & P Seafood Company Limited

91. Tai Nguyen Seafood Co., Ltd.

92. Tan Phong Phu Seafood Co., Ltd.

93. Tan Thanh Loi Frozen Food Co., Ltd.

94. THADIMEXCO

95. Thai Hoa Foods Joint Stock Company

96. Thai Minh Long Seafood Company Limited

97. Thaimex

98. Thanh Doan Fisheries Import-Export Joint Stock Company

99. Thanh Doan Sea Products Import & Export Processing Joint-Stock Company

100. Thanh Doan Seafood Import Export Trading Joint-Stock Company

101. The Light Seafood Company Limited

102. Thien Phu Export Seafood

103. Thinh Hung Co., Ltd.

104. Thinh Phu Aquatic Products Trading Co., Ltd.

105. Thuan Thien Producing Trading Ltd. Co.

106. TPP Co. Ltd.

107. Trang Corporation (Vietnam)

108. Trung Son Corp.

109. Trung Son Seafood Processing Joint Stock Company

110. Van Duc Food Company Limited

111. Viet Asia Foods Company Limited

112. Viet Hai Seafood Co., Ltd.

113. Viet Phu Foods and Fish Corp.

114. Viet Shrimp Corporation

115. Vietnam Fish One Co., Ltd.¹⁴

¹⁴ As noted above, though we stated we would rescind the review with respect to Vietnam Fish One in the Preliminary Results, we determined after the publication of the Preliminary Results that it must be included in the Vietnam-wide entity because of its historical a.k.a. relationship with Viet Hai Seafood Co., Ltd., a company we have determined to belong to the Vietnam-wide entity. For a full discussion, see the Vietnam Fish One Status Memorandum.

116. VIFAFOOD

117. Vinh Phat Food Joint Stock Company

118. XNK Thinh Phat Processing Company

[FR Doc. 2024-03072 Filed 2-13-24; 8:45 am]

BILLING CODE 3510-DS-P